FEDERAL RESERVE SYSTEM

Change in Bank Control Notices; Acquisition of Shares of Bank or Bank Holding Companies

The notificants listed below have applied under the Change in Bank Control Act (12 U.S.C. 1817(j)) and § 225.41 of the Board’s Regulation Y (12 CFR 225.41) to acquire a bank or bank holding company. The factors that are considered in acting on the notices are set forth in paragraph 7 of the Act (12 U.S.C. 1817(j)(7)).

The notices are available for immediate inspection at the Federal Reserve Bank indicated. The notices also will be available for inspection at the office of the Board of Governors. Interested persons may express their views in writing to the Reserve Bank indicated for that notice or to the offices of the Board of Governors. Comments must be received not later than December 12, 2006.

A. Federal Reserve Bank of Atlanta (Andre Anderson, Vice President) 1000 Peachtree Street, N.E., Atlanta, Georgia 30303:

1. Brenda Morris Griner, Columbia, Mississippi; to acquire additional shares of First Federal Bancorp, and thereby indirectly acquire First Southern Bank, all of Columbia, Mississippi.

B. Federal Reserve Bank of Minneapolis (Jacqueline G. King, Community Affairs Officer) 90 Hennepin Avenue, Minneapolis, Minnesota 55480-0291:

1. Garry D. Peterka, Miller, South Dakota, and Dan R. Peterka, Eden Prairie, Minnesota; individually and as part of a group acting in concert with Tom J. Peterka; Miller, South Dakota, Judy K. Dylla, Littleton, Colorado; Jerry A. Peterka, Miller, South Dakota; Kathy A. King, Apple Valley, Minnesota; Marianne D. Peterka, Miller, South Dakota; Gary P. King, Apple Valley, Minnesota; HoniAnn Peterka, Miller, South Dakota; Bernie G. Dylla, Littleton, Colorado; Lori A. Peterka, Miller, South Dakota; Patricia A. Friend Peterka, Eden Prairie, Minnesota; Howard J. Peterka, Miller, South Dakota; Susan A. King Borchardt, Castlerock, Colorado; Stephen J. King, Apple Valley, Minnesota; Brian P. King, Apple Valley, Minnesota; Mark J. Dylla, Littleton, Colorado; Ann M. Dylla, Littleton, Colorado; Jeffery D. Peterka, Eden Prairie, Minnesota; John A. Peterka, Eden Prairie, Minnesota; Kathryn M. Peterka, Eden Prairie, Minnesota; Michael T. Peterka, Miller, South Dakota; David J. Peterka, Miller, South Dakota; Ryan A. Peterka, Miller, South Dakota; Jena N. Peterka, Miller, South Dakota; Adam J. Peterka, Miller, South Dakota; Jordan D. Peterka, Miller, South Dakota; Darin M. Peterkam Miller, South Dakota; and Kristen N. Peterka, Miller, South Dakota, to acquire 25 percent or more of the voting shares of M & H Financial Services, Inc., Miller, South Dakota, and thereby indirectly acquire control of First State Bank of Miller, Miller, South Dakota.

Board of Governors of the Federal Reserve System, November 22, 2006.
Robert deV. Frierson,
Deputy Secretary of the Board.

[FR Doc. E6-20138 Filed 11-27-06; 8:45 am]

BILLING CODE 6210-01-S